DEPARTMENT OF THE INTERIOR

Bureau of Land Management

[AK-930-5420-FR-L037; FF-094608—F-094612]

Notice of Applications for Recordable Disclaimers of Interest for Lands Underlying the Kantishna River, Birch Creek, Muddy River, Lake Minchumina, Deep Creek, and Jim Lake; Alaska

AGENCY: Bureau of Land Management, Interior.

ACTION: Notice.

SUMMARY: The State of Alaska (State) has filed applications for Recordable Disclaimers of Interest from the United States in certain lands underlying waterbodies within the Kantishna River, Birch Creek (a portion thereof), Muddy River, Lake Minchumina, Deep Creek, and Jim Lake in the Tanana River Subregion, Alaska. The State asserts that the water bodies were navigable, and unreserved at the time of statehood; therefore, title to the submerged lands passed to the State at the time of statehood (1959). Some of the lands included in the applications are within the boundary of the Denali National Preserve, created by the Alaska National Interest Lands Conservation Act of December 2, 1980.

DATES: Comments on the State of Alaska's applications should be submitted on or before September 24, 2007. The Bureau of Land Management (BLM) Draft Summary Report will be posted on the BLM-Alaska website within this notice period. Once posted, interested parties will have sixty (60) days to comment on the findings: http://www.blm.gov/ak/ak930/rdi/index.html.

ADDRESSES: Comments on the State of Alaska's applications or the BLM Draft Summary Report should be sent to the Chief, Branch of Lands and Realty, BLM Alaska State Office, 222 West 7th Avenue, #13, Anchorage, Alaska 99513-7599.

FOR FURTHER INFORMATION CONTACT: Mike Brown at (907) 271-3602 or visit the BLM-Alaska Web site http://www.blm.gov/ak/ak930/rdi/index.html.

SUPPLEMENTARY INFORMATION: On September 29, 2005, the State of Alaska (State) filed five (5) separate applications for Recordable Disclaimers of Interest pursuant to Section 315 of the Federal Land Policy and Management Act and the regulations contained in 43 CFR Subpart 1864 for lands underlying certain waterbodies within the Kantishna River-Lake Minchumina System: Jim Lake (FF-09608); Deep Creek (FF-094609); Muddy River (FF-094610); Lake Minchumina (FF-094611); and the Kantishna River and a portion of Birch Creek (FF-094612). These waterbodies are located within the Tanana River Subregion, Alaska. A Recordable Disclaimer of Interest, if issued, will confirm the United States has no valid interest in the subject lands. The notice is intended to notify the public of the pending applications and the State's grounds for supporting it. The State asserts that the water bodies are navigable; therefore, under the Equal Footing Doctrine and Submerged Lands Act of 1953, ownership of these lands automatically passed from the United States to the State at the time of statehood in 1959. The State did not identify any known adverse claimant or occupant of the affected lands. A portion of the lands included in the applications are within the boundary of the Denali National Preserve, created by the Alaska National Interest Lands Conservation Act of December 2, 1980.

A final decision on the merits of the applications will not be made before September 24, 2007. During the ninety (90) day notice period, interested parties may comment upon the State's applications (FF-094608 to FF-094612), and supporting evidence. Interested parties may also comment on the evidence presented in the BLM Draft Summary Report within sixty (60) days of its availability. The BLM Draft Summary Report will be posted on the BLM-Alaska Web site within the ninety (90) day notice period: http://www.blm.gov/ak/ak930/rdi/index.html.

Comments, including names and street addresses of commentors, will be available for public review at the Alaska State Office (see address above), during regular business hours 7:30 a.m. to 4:30 p.m., Monday through Friday, except Federal holidays. Before including your address, phone number, e-mail address, or other personal identifying information in your comment, you should be aware that your entire comment—including your personal identifying information—may be made publicly available at any time. While you can ask us in your comment to withhold your personal identifying information from public review, we cannot guarantee that we will be able to do so.

(Authority: 43 CFR 1864.2(a))

Dated: May 4, 2007.
Jack Frost,
Acting Chief, Branch of Lands and Realty.

[FR Doc. E7-12153 Filed 6-22-07; 8:45 am]

BILLING CODE 4310-JA-P